DEPARTMENT OF AGRICULTURE

Rural Utilities Service

7 CFR Part 1740

[Docket No. RUS-20-Telecom-0023]

RIN 0572-AC51

Rural eConnectivity Program

AGENCY: Rural Utilities, USDA.

ACTION: Final rule; confirmation and response to comments.

SUMMARY: The Rural Utilities Service (RUS or Agency), an agency in the United States Department of Agriculture (USDA) Rural Development Mission area, published a final rule with comment in the Federal Register on February 26, 2021, to establish the Rural eConnectivity Program (ReConnect Program). The final rule described the eligibility requirements, the application process, the criteria that RUS uses to assess applicants' creditworthiness and outlined the application process. Through this action, RUS is confirming the final rule as it was published and providing responses to the public comments that addressed the broadband speed used to determine eligibility.

DATES: The final rule published February 26, 2021, at 86 FR 11609, is confirmed as of April 27, 2021.

FOR FURTHER INFORMATION CONTACT: Laurel Leverrier, Assistant Administrator; Telecommunication Program; Rural Development; U.S. Department of Agriculture; 1400 Independence Avenue SW; Room 4121-S; Washington, DC 20250; telephone 202-720-3416, email laurel.leverrier@usda.gov. Persons with disabilities or who require alternative means for communication should contact the USDA Target Center at 202-720-2600.

SUPPLEMENTARY INFORMATION: The ReConnect Program was authorized by the Consolidated Appropriations Act, 2018 (Pub. L. 115-141), which directed the program to be conducted under the Rural Electrification Act of 1936 (7 U.S.C. 901 et seq). The program has received successive appropriations by Congress and has matured due to Agency experience and feedback provided by stakeholders. Since its establishment in 2018, the ReConnect Program has been implemented by issuing four Funding Opportunity Announcements (FOA).

The ReConnect Program provides loans, grants, and loan/grant combinations to facilitate broadband deployment in rural areas. In facilitating the expansion of broadband services and infrastructure, the program fuels long-term rural economic development and opportunities across rural America.

The final rule that published February 26, 2021 (86 FR 11603), included a 60-day comment period that ended on April 27, 2021. The final rule specifically requested comments on the speed used to determine eligibility. The Agency received comments from 73 respondents. Respondents included industry associations, engineering firms, individuals, education providers, Tribes and Tribal organizations, economic development and municipal organizations, manufacturers, telecommunications providers and nonprofits. Thirty-five of the respondents provided constructive feedback on the regulation and the remaining 38 were supportive of the program.

As requested in the rule, several of the constructive comments included suggestions to increase the standard of sufficient access from 10/1 Mbps to at least 25/3 Mbps. One respondent requested that RUS acknowledge that the current definition of broadband, 25/3 Mbps, does not correspond with the requisite download and upload speeds for many businesses, education, and health care applications. Two recommended that RUS use a weighted priority scale to allow funds to go first to 10/1 areas, and then to areas up to 25/3 or even higher. Two others requested that RUS prioritize areas with speeds slower than 25/3 Mbps and suggested that sufficient access should be defined at 100/20 Mbps.

Agency response: As provided in 7 CFR part 1940, “Sufficient Access to Broadband” is set forth in each funding announcement. No change to the rulemaking is necessary. Comments provided in response to the rule were taken into account for the funding announcement issued on October 25, 2021, at 86 FR 58860.

The RUS appreciates comments from interested parties. The Agency confirms the final rule without change.

Andrew Berke,
Administrator, Rural Utilities Service.

[FR Doc. 2022-22677 Filed 10-18-22; 8:45 am]

BILLING CODE 3410-15-P